DEPARTMENT OF THE INTERIOR

Bureau of Land Management

[L51010000.FX0000.LVRWA09A2400.LLAZP01000; AZA34187]

Notice of Availability of the Final Environmental Impact Statement for the Proposed Sonoran Solar Energy Project, Maricopa County, AZ

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Final Environmental Impact Statement (EIS) for the Sonoran Solar Energy Project (SSEP) and by this notice is announcing its availability.

DATES: The publication of this Notice of Availability (NOA) in the Federal Register initiates a 30-day public comment period. The BLM will not issue a final decision for a minimum of 30 days from the date that the Environmental Protection Agency publishes its NOA in the Federal Register.

ADDRESSES: Comments pertaining to the Final EIS for the Sonoran Solar Energy Project may be submitted by any of the following methods:

• E-mail: sonoransolar@blm.gov.

• Mail: BLM Phoenix District Office, Lower Sonoran Field Office, Sonoran Solar Energy Project, Joe Incardine, National Project Manager, 21605 North 7th Avenue, Phoenix, Arizona 85027-2929.

Copies of the Final EIS for the proposed Sonoran Solar Energy Project have been sent to Federal, state and local government agencies, and to other stakeholders. Copies are available for public inspection at the BLM's Phoenix District Office, Lower Sonoran Field Office, 21605 North 7th Avenue, Phoenix, Arizona 85027-2929 and the BLM Arizona State Office, One North Central Avenue, Phoenix, Arizona 85004-4427. Interested parties may also review the Final EIS at the following public libraries in Maricopa County, Arizona:

• Buckeye Public Library, 310 N. 6th Street, Buckeye, Arizona 85236.

• Gila Bend Public Library, 202 N. Euclid Avenue, Gila Bend, Arizona 85337.

• Goodyear Public Library, 250 N. Litchfield Road, Goodyear, Arizona 85338.

Interested parties may also review the Final EIS at the following Web site: http://www.blm.gov/az/st/en/prog/energy/solar/sonoran_solar.html.

FOR FURTHER INFORMATION CONTACT: Joe Incardine, BLM National Project Manager; telephone: 801-524-3833; address: 21605 North 7th Avenue, Phoenix, Arizona 85027-2929; e-mail: jincardi@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Boulevard Associates, LLC (Boulevard), a fully owned subsidiary of NextEra, LLC, is proposing to construct an up to 375-megawatt (MW) concentrated-solar-thermal (CST) power plant and ancillary facilities on 3,620 acres (5.78 square miles) of mostly BLM-administered land. The proposed CST project would be sited in the Little Rainbow Valley, east of State Route 85, and south of the Buckeye Hills in Maricopa County, Arizona. This is in BLM's Lower Gila South Planning Area which is managed in accordance with the Lower Gila South Resource Management Plan (RMP) (1988), as amended (2005). Boulevard has applied for a 14,759-acre right-of-way (ROW); the footprint of the proposed SSEP would total approximately 3,620 acres (5.78 square miles) of mostly BLM land. The project would also include land owned by the Arizona State Land Department (5.23 acres) and private parties (6.04 acres). Related facilities would include road construction and improvements, a gas pipeline, electric lines, and a water well field and pipeline. Boulevard's ROW application only applies to BLM-administered land.

The BLM's purpose and need for Federal action is to respond to Boulevard's application under Title V of FLPMA (43 U.S.C. 1761) for a ROW grant to construct, operate, and decommission a solar power plant on public lands in compliance with FLPMA, BLM's ROW regulations, and other applicable Federal laws. The BLM will decide whether to approve, approve with modification, or deny issuance of a ROW grant to Boulevard for the proposed SSEP. If approved, the solar facility would operate for approximately 30 years based on the purchase power agreement(s) with utilities.

The BLM completed a land use plan conformance analysis of the project proposal and determined that the proposed land use is in conformance with the Lower Gila South RMP, as amended. As part of its review of the Boulevard ROW application, the BLM considered the Energy Policy Act of 2005 and Secretarial Orders 3283 Enhancing Renewable Energy Development on the Public Lands and 3285A1 Renewable Energy Development by the Department of the Interior.

The Proposed Action would consist of two independent, concentrated solar electric generating facilities with expected outputs of 125 MW and 250 MW. Both facilities would use parabolic trough solar thermal technology to produce electrical power using steam turbine generators. The generators would connect to a new SSEP 500-kilovolt (kV) onsite switchyard. Electricity from the new switchyard would be transmitted through a generation tie-line connecting to the existing Jojoba Switchyard. The Proposed Action would use a wet-cooling tower for power plant cooling with up to 3,003 acre-feet per year of water being supplied from an onsite groundwater well field. Three natural gas co-firing boilers would be constructed to augment solar heating when less than optimal solar conditions existed (night time, cloud cover, etc.), and would provide up to 25 percent of the annual total electric production. The boilers would be supplied with natural gas via a new 5-mile-long, 8-inch pipeline. A thermal energy storage (TES) system may also be installed to supplement electrical output during reduced solar activity or to extend electrical output into the evening hours. The TES would use molten salt as its energy storage material. The proposed SSEP would include a number of related facilities and infrastructure including power blocks and solar trough arrays (2,300 acres), evaporation ponds, access roads, administration buildings and other support facilities, a land treatment unit, drainage collection and discharge facilities, as well as open areas (totaling 1,300 acres).

As required under NEPA, the EIS also analyzes a No Action alternative which would preclude development of the SSEP in any configuration and maintain existing land uses in the project area. The four action alternatives are: (1) The Proposed Action (as described above); (2) Alternative A: Reduced Water Use (using a dry-cooling technology); (3) Sub-alternative A1: Photovoltaic (PV) (a 300-MW PV facility occupying 2,013 acres); and (4) Alternative B: Reduced Footprint (a 250-MW wet-cooled facility occupying 2,320 acres). Alternatives A and B were developed in response to issues raised during the scoping process. Sub-alternative A1 was developed in response to agency and public comments on the Draft EIS as an alternative to Alternative A for reducing water consumption. Sub-alternative Al would use PV technology instead of solar thermal technology to reduce water use, to decrease the project footprint, and to avoid other issues related to sensitive resources raised by the public and agency cooperators. The use of PV technology was originally eliminated from further analysis in the Draft EIS due to technological and economic infeasibility. However, changing technology and market conditions have made PV technology feasible, and thus, full consideration of PV technology has been added to the Final EIS. A Brine Concentrator Option is also analyzed as a component of the Proposed Action and Alternative B.

The BLM has identified Sub-alternative A1 (which would use PV technology) as the agency-preferred alternative, which would reduce water consumption as well as mitigate other resource issues. This sub-alternative would reasonably accomplish the purpose and need for the Federal action while fulfilling the BLM's statutory mission and responsibilities, giving consideration to economic, environmental, and technical factors. In particular, this sub-alternative best addresses public and agency concerns regarding groundwater use while meeting the purpose and need. Under Sub-alternative A1, approximately 33 acre-feet of groundwater reserves in the Rainbow Valley aquifer would be removed and used annually during operations. This is approximately 98 percent less than the estimated water requirements of the Proposed Action (the highest water use alternative, which would use wet-cooled CST technology) and 72 percent less than the estimated water requirements of Alternative A (the lowest water use alternative after Sub-alternative A1, which would use dry-cooled CST technology). No modeled detectable drawdown to previously existing wells would occur under Sub-alternative A1. In addition, the total estimated acreage of surface disturbance under Sub-alternative A1 (2,013 acres)—the least surface disturbance of all action alternatives—is approximately 44 percent less than under the Proposed Action and approximately 15 percent less than under the reduced footprint of Alternative B. The smaller overall project footprint would also reduce adverse impacts to other resources and uses (e.g., wildlife, visual resources, soils, vegetation) compared to other action alternatives. Sub-alternative A1 would generate approximately 775,000 MW hour per year of electricity, which is approximately 89 percent of the generation under the wet-cooled Proposed Action, 101 percent of the generation under Alternative A, and 144 percent of the generation under Alternative B.

Four agencies are serving as cooperating agencies in the preparation of the Final EIS because of their jurisdictional responsibilities and/or special expertise. Cooperating agencies are the Arizona Game and Fish Department, the Arizona Department of Water Resources, the City of Goodyear, and the Town of Buckeye.

A Notice of Intent to Prepare an EIS for the Proposed Sonoran Solar Energy Project, Maricopa County, Arizona was published in the Federal Register on July 8, 2009 (74 FR 32641). The BLM held three public scoping meetings in Phoenix, Buckeye, and Gila Bend, Arizona, on August 4, 5, and 6, 2009, respectively. The formal 30-day public scoping period ended September 8, 2009. On April 19, 2010, the BLM published in the Federal Register a Notice of Availability for the Draft EIS for the Proposed Sonoran Solar Energy Project, Maricopa County, Arizona, which initiated a 45-day public comment period (75 FR 20377). The BLM again held three public meetings in Phoenix, Gila Bend, and Buckeye, Arizona, on April 27, 28, and 29, 2010, respectively. The formal 45-day public comment period ended May 24, 2010. Comments on the Draft EIS received from the public and internal review were considered and incorporated as appropriate into the Final EIS. There were 161 comment letters received; the responses are included in the Final EIS. The majority of the comments received expressed concern about the amount of water to be used, as well as potential effects on air quality conformance, cultural resources, visual resources, and wildlife.

Before including your address, phone number, e-mail address, or other personal identifying information in your comment, you should be aware that your entire comment—including your personal identifying information—may be made publicly available at any time. While you can request your personal identifying information be withheld from public review, we cannot guarantee that we will be able to do so.

Authority: 40 CFR 1506.6, 1506.10, and 43 CFR 1610.2.

Raymond Suazo,
Acting State Director.

[FR Doc. 2011-27272 Filed 10-20-11; 8:45 am]

BILLING CODE 4310-32-P